DEPARTMENT OF ENERGY

Federal Energy Regulatory Commission

[P-2079-069—CA]

Middle Fork American River Hydroelectric Project Placer County Water Agency; Notice of Draft Environmental Impact Statement; Public Meetings

a. Date and Time of Meetings: Tuesday, August 28, 2012, from 9:00 a.m. to 11:00 a.m. and from 7:00 p.m. to 9:00 p.m. (Pacific Time).

b. Location: The Holiday Inn Auburn, 120 Grass Valley Highway, Auburn, California 95603, Telephone: (530) 887-8787.

c. FERC Contact: Carolyn Templeton, (202) 502-8785, carolyn.templeton@ferc.gov.

d. Purpose of the Meeting: Commission staff will hold two public meetings for the purpose of receiving verbal and/or written comments on the draft environmental impact statement for the Middle Fork American River Project No. 2079. The daytime meeting will focus on resource agency, Indian tribes, and non-governmental organization comments, while the evening meeting is primarily for receiving input from the public. All interested individuals and entities are invited to attend one or both of the public meetings. The meetings will be recorded by a court reporter, and all statements will become part of the Commission's public record for the project. This meeting is posted on the Commission's calendar located at http://www.ferc.gov/EventCalendar/EventsList.aspx along with other related information.

e. All local, state, and federal agencies, tribes, and interested parties, are hereby invited to participate in the meeting.

Dated: July 31, 2012.
Kimberly D. Bose,
Secretary.

[FR Doc. 2012-19278 Filed 8-6-12; 8:45 am]

BILLING CODE 6717-01-P